DEPARTMENT OF HOMELAND SECURITY

Coast Guard

33 CFR Part 117

[Docket No. USCG-2012-0592]

Drawbridge Operation Regulation; Tennessee River, Decatur, AL

AGENCY: Coast Guard, DHS.

ACTION: Notice of temporary deviation from regulations.

SUMMARY: The Coast Guard has issued a temporary deviation from the operating schedule that governs the Southern Railroad Drawbridge across the Tennessee River, mile 304.4, at Decatur, AL. The deviation is necessary to install new rail joints and perform other maintenance essential to the safe operation of the bridge. This deviation allows the bridge to be in the closed-to-navigation position.

DATES: This deviation is effective from 8:00 a.m. to noon and from 12:30 p.m. to 4:30 p.m. July 16 through July 19, 2012.

ADDRESSES: Documents mentioned in this preamble as being available in the docket are part of docket USCG-2012-0592 and are available online by going to http://www.regulations.gov, inserting USCG-2012-0592 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Eric A. Washburn, Bridge Administrator, Western Rivers, Coast Guard; telephone 314-269-2378, email Eric.Washburn@uscg.mil. If you have questions on viewing the docket, call Renee V. Wright, Program Manager, Docket Operations, telephone 202-366-9826.

SUPPLEMENTARY INFORMATION: The Norfolk Southern Railroad requested a temporary deviation for the Southern Railroad Drawbridge, across the Tennessee River, mile 304.4, at Decatur, AL.

The vertical clearance of the bridge in the closed position is 10.5 feet. The bridge opens on request or by signal as required by 33 CFR 117.5. The deviation period is from 8:00 a.m. to noon and from 12:30 p.m. to 4:30 p.m. July 16 through July 19, 2012. The Coast Guard will inform the public through broadcast notices to mariners of any changes in the schedule for this deviation. During the deviation period new rail joints will be installed which require steel cutting and welding activity on the bridge.

Vessel traffic consists of commercial tows ranging from a single barge to 15-barges and approximately six openings during the deviation period could normally occur. This deviation was coordinated with the commercial waterway users and no objections were expressed. The bridge, in the closed position, does not provide ample clearance for vessels to pass beneath and there are no alternate routes for vessels transiting this section of the Tennessee River.

In accordance with 33 CFR 117.35(e), the drawbridge must return to its regular operating schedule immediately at the end of the designated time period. This deviation from the operating regulations is authorized under 33 CFR 117.35.

Dated: June 18, 2012.
Eric A. Washburn,
Bridge Administrator, Western Rivers.

[FR Doc. 2012-16620 Filed 7-6-12; 8:45 am]

BILLING CODE 9110-04-P